DEPARTMENT OF ENERGY

Federal Energy Regulatory Commission

[Docket No. RP00-212-003]

NUI Corporation (City of Gas Company of Florida Division) v. Florida Gas Transmission Company; Notice of Filings

August 21, 2000.

Take notice that on August 14, 2000, Florida Gas Transmission Company (FGT), and Enron North America Corp. (ENA) each tendered for filing in the above referenced docket to comply with the requests for information in the Commission's Order on Complaint, Requiring Tariff Filing, And Requiring Filing of Information (Order on Complaint) issued on July 14, 2000, in this proceeding.¹

¹ 92 FERC ¶61,044 (2000).

FGT and ENA filed information relating to ENA's need for capacity on the FGT system and ENA's decision to submit a bid on an expiring contract of NUI Corporation (City Gas Company of Florida Division) (NUI) during the right-of-first-refusal process.

FGT and ENA both request privileged and confidential treatment for some of the filed information because they assert the information sought relates to both FGT's and ENA's on-going business and personnel matters and, therefore, is proprietary and sensitive and would cause FGT, or its customers, and ENA substantial competitive harm if disclosed. Accordingly, FGT and ENA request that the Commission treat their respective filings and the information contained therein as confidential and proprietary and not disclose such information, or require FGT or ENA to disclose such information to third parties pursuant to § 388.112 of the Commission's Regulations.

It is not clear from the filings whether FGT or ENA has served a redacted copy of their filings on the parties to the proceeding. As set forth in § 385.213(c)(5)(ii) of the Commission's regulations, FGT and ENA must provide a redacted copy of its filing without the privileged information to all parties on the official service list. In addition, both FGT and ENA must provide each party with a proposed form of protective agreement.

Under the July 14, 2000 order, parties were to have thirty days from the date of the filings within which to file a response to the FGT and ENA filings. The time period will be extended to October 13, 2000 to permit sufficient time to execute protective agreements and review the filings. Copies of these filings are on file with the Commission and are available for public inspection in the Public Reference Room. This filing may be viewed on the web at http://www.ferc.fed.us/online/rims.htm (Call 202-208-2222 for assistance).

Linwood A. Watson, Jr.,
Acting Secretary.

[FR Doc. 00-21665 Filed 8-23-00; 8:45 am]

BILLING CODE 6717-01-M